ENVIRONMENTAL PROTECTION AGENCY

[FRL-7375-2]

Proposed CERCLA Section 122(h) Administrative Settlement; Martin Young And the Martin Young Trust, Yonkelowitz Junkyard Site, Hoopeston, Vermilion County, Illinois

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Yonkelowitz Junkyard Site in Hoopeston, Vermilion County, Illinois with the following settling parties: Martin Young and the Martin Young Trust. The settlement requires Martin Young to pay $50,000 to the Hazardous Substance Superfund. Also, the settlement requires the Martin Young Trust to pay to the Hazardous Substance Superfund, within 60 days of receipt, all proceeds received from the sale, lease, transfer, mortgage, grant of, or conveyance of any interest, etc. in property located at the northwest corner of the intersection of First Avenue and Main Street, Hoopeston, Vermilion County, Illinois. The settlement includes a covenant not to sue the settling parties pursuant to section 107(a) of CERCLA, 42 U.S.C. 9607(a), with respect to past response costs. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the United States Environmental Protection Agency, Region 5, 77 West Jackson Blvd., Chicago, Illinois 60604-3590.

DATES: Comments must be submitted on or before December 2, 2002.

ADDRESSES: The proposed settlement is available for public inspection at the United States Environmental Protection Agency, Region 5, 77 West Jackson Blvd., Chicago, Illinois 60604-3590. A copy of the proposed settlement may be obtained from Sally Jansen, Environmental Specialist, United States Environmental Protection Agency, Region 5, 77 West Jackson Blvd. (SE-5J), Chicago, Illinois 60604-3590, (312) 353-9046. Comments should reference the Yonkelowitz Junkyard Site, Hoopeston, Vermilion County, Illinois and EPA Docket No. V-W-‘02-C-690 and should be addressed to Diana Embil, Associate Regional Counsel, United States Environmental Protection Agency, Region 5, 77 West Jackson Blvd. (C-14J), Chicago, Illinois 60604-3590, (312) 886-7889.

FOR FURTHER INFORMATION CONTACT: Diana Embil, Associate Regional Counsel, United States Environmental Protection Agency, Region 5, 77 West Jackson Blvd. (C-14J), Chicago, Illinois 60604-3590, (312) 886-7889.

Dated: April 29, 2002.
William E. Muno,
Director, Superfund Division, Evionmental Protection Agency, Region 5.

[FR Doc. 02-27832 Filed 10-31-02; 8:45 am]

BILLING CODE 6560-50-P